DEPARTMENT OF AGRICULTURE

Food and Nutrition Service

Agency Information Collection Activities: Proposed Collection, Comment Request—Food Stamp Program: State Issuance and Participation Estimates—Form FNS-388

AGENCY: Food and Nutrition Service, USDA.

ACTION: Notice.

SUMMARY: In accordance with the Paperwork Reduction Act of 1995, the Food and Nutrition Service (FNS) is publishing for public comment a summary of a proposed information collection. The proposed collection is to reinstate a previously approved collection under OMB No. 0584-0081 for the Food Stamp Program for the form FNS-388, State Issuance and Participation Estimates.

DATES: Comments on this notice must be received by June 12, 2000 to be assured of consideration.

ADDRESSES: Send comments and requests for copies of this information collection to Barbara Hallman, Chief, State Administration Branch, Food Stamp Program, Food and Nutrition Service, USDA, 3101 Park Center Drive, Alexandria, VA 22302. Copies of the estimate of the information collection can be obtained by contacting Ms. Hallman.

Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All comments will be summarized and included in the request for Office of Management and Budget approval of the information collection. All comments will become a matter of public record.

FOR FURTHER INFORMATION CONTACT: Barbara Hallman, telephone number (703) 305-2383.

SUPPLEMENTARY INFORMATION: Title: Form FNS-388, State Issuance and Participation Estimates.

OMB Number: 0584-0081.

Expiration Date: Expired.

Type of Request: Reinstatement of a previously approved collection.

Abstract: Section 18(b) of the Food Stamp Act limits the value of allotments paid to food stamp households to an amount not in excess of the appropriation for the fiscal year. If allotments in any fiscal year would exceed the appropriation, the Secretary of Agriculture is required to direct State agencies to reduce the value of food stamp allotments to the extent necessary to stay within appropriated funding limits.

Section 18(a) of the Food Stamp Act requires the Secretary of Agriculture to submit a monthly report to Congress setting forth the Secretary's best estimate of the second preceding month's expenditures for the Food Stamp Program as well as the cumulative total for the fiscal year. In each monthly report the Secretary is required to also state whether supplemental appropriations will be needed to support the operation of the program through the end of the fiscal year. The timeliness and accuracy of the data available to the Secretary prior to submitting this report will have a direct effect upon any request for supplemental appropriations that may be submitted and the manner in which allotments will be reduced if the supplemental appropriation is not provided. While benefit reductions have never been ordered in the past under Section 18(b) nor are they anticipated based on current data, the Department must continue to monitor actual program costs against the appropriation.

Section 11(e)(12) of the Food Stamp Act requires that the State Plan of Operations shall provide for the submission of reports required by the Secretary of Agriculture. State agencies are required to report on a monthly basis on the FNS-388, State Issuance and Participation Estimates, estimated or actual issuance and participation data for the current month and previous month, and actual participation data for the second preceding month. The FNS-388 report provides the necessary data for an early warning system to enable the Department to fulfill its reporting requirements to Congress.

State agencies in general only submit one Statewide FNS-388 per month. The exception is that State agencies which choose to operate both a coupon system and an electronic benefit transfer (EBT) system or which choose to operate an approved alternative issuance demonstration project such as a cash-out system submit a separate report for each type of issuance system. State agencies are converting from coupons to EBT. In July 1999, 39 States and the District of Columbia operated an EBT system and 31 operated EBT statewide. With additional States moving from paper coupons to EBT in the next few months, few States will be expected to temporarily submit more than one FNS-388 report per month at any one time. With State agency automated information systems, the separate report for a secondary issuance system or an alternative issuance demonstration project should have a negligible impact on the burden.

In addition, State agencies are required to submit a project area breakdown on the FNS-388 of issuance and participation data twice a year. This data is useful in identifying project areas that are required to do photo identification of heads of households or to operate fraud detection units in accordance with the Act.

Beginning July 1993, State agencies were allowed to submit the FNS-388 data electronically to the national database files stored in FNS' Food Stamp Program Integrated Information System in lieu of a paper report. The voluntary changeover from paper to electronic reporting of FNS-388 data by States was done as part of FNS' State Cooperative Data Exchange Project. This project is being expanded over time as more FNS forms are transferred to electronic formats for State data entry. As of July 1999, 45 State agencies submit the FNS-388 data electronically and 8 State agencies submit paper reports.

Respondents: State agencies that administer the Food Stamp Program.

Estimated Number of Respondents: 53.

Estimated Number of Responses per Respondent:

Form FNS-388: 53 State agencies 12 times a year.

Form FNS-388A: 53 State agencies twice a year.

Estimate of Burden:

Form FNS-388: The State agencies submit Form FNS-388 10 times per year at an estimate of 5.60 hours per respondent, or 2,970 hours annually for all respondents. The remaining two FNS-388 submissions with a public assistance (PA) and non-public assistance (NA) caseload breakout are covered under the FNS-388A twice a year submissions (see below).

Form FNS-388A: The State agencies submit a more detailed FNS-388 (with PA and NA breakout) twice a year and FNS-388A project area breakdown twice a year at an estimate of 14.8 hours per respondent, or 1,572 hours annually for all respondents.

Estimated Total Annual Burden on Respondents: The annual reporting and recordkeeping burden for OMB No. 0584-0081 is estimated to be 4,542 hours.

Dated: March 22, 2000.
Samuel Chambers, Jr.,
Administrator.

[FR Doc. 00-8937 Filed 4-10-00; 8:45 am]

BILLING CODE 3410-30-U